DEPARTMENT OF TRANSPORTATION

Maritime Administration

46 CFR Part 310

[Docket Number MARAD-2004-17185]

RIN 2133-AB57

Amended Service Obligation Reporting Requirements for U.S. Merchant Marine Academy and State Maritime Academy Graduates

AGENCY: Maritime Administration, Department of Transportation.

ACTION: Interim final rule with request for comments.

SUMMARY: In this interim final rule, the U.S. Maritime Administration (MARAD, we, us, or our) will change the service obligation reporting requirements for United States Merchant Marine Academy (USMMA) graduates and State maritime academy graduates who receive Student Incentive Payments (SIP). Prior to this regulation, each graduate was required to submit an employment report form thirteen (13) months following his or her graduation and each succeeding twelve (12) months for a total of five (5) consecutive years.

The amended obligation will require each graduate to file a report on March 31 following graduation and six (6) consecutive years thereafter. Each graduate will file a total of seven (7) reports in order to give information on all six (6) years of service obligation. This new reporting date will create a standard reporting period for all graduates and will coincide with the U.S. Naval Reserve/Merchant Marine Reserve (USNR/MMR) service reporting date. This rulemaking will also provide for the electronic submission of reports as the primary means for submission to MARAD.

DATES: This interim final rule is effective March 2, 2004. However, MARAD will consider comments received not later than April 1, 2004.

ADDRESSES: Comments should refer to the docket number that appears on the top of this document. Written comments may be submitted to the Docket Clerk, U.S. DOT Dockets, Room PL-401, 400 Seventh Street, SW., Washington, DC 20590. Comments may also be submitted by electronic means via the Internet at http://dmses.dot.gov/submit. Note that all comments received will be posted without change including any personal information provided in the comment. All comments received will be available for examination at the above address between 10 a.m. and 5 p.m. ET, Monday through Friday, except Federal holidays. An electronic version of this document is available on the World Wide Web at http://dms.dot.gov.

FOR FURTHER INFORMATION CONTACT: Ms. Brenda Reed-Perry, Office of Policy and Plans, Maritime Administration, MAR-410, Room 7123, 400 Seventh Street, SW., Washington, DC 20590; telephone: (202) 366-0845; FAX: (202) 366-7403 and e-mail: maritime.graduate@marad.dot.gov.

SUPPLEMENTARY INFORMATION: The USMMA and State maritime academies require a midshipman/cadet who is a U.S. citizen and who enters the USMMA or a State maritime academy in the SIP program after April 1, 1982, to sign a service obligation contract which obligates the midshipman/cadet to certain post-graduate employment. Prior to this interim final rule, a USMMA or State maritime academy SIP graduate was required to submit his or her service obligation report thirteen (13) months following his or her graduation and each succeeding twelve (12) months for a total of five (5) consecutive years for USMMA graduates and for a total of three (3) years for State maritime academy SIP graduates.

However, MARAD is now establishing the same service obligation reporting date that the USNR/MMR requires. This interim final rule will require each graduate to file a report on March 31 following graduation and six (6) consecutive years thereafter. Each graduate will file a total of seven (7) reports in order to give information on all six (6) years of service obligation. This new reporting date not only will coincide with the USNR/MMR's service reporting date but also will create a standard reporting period for all graduates. This rulemaking will also provide for the electronic submission of reports as the primary means for submission. Graduates must submit annually the Maritime Administration Service Obligation Compliance Report and Merchant Marine Reserve, U.S. Naval Reserve (USNR), Annual Report (Form MA-930). Graduates may submit their Service Obligation Reports electronically via the Maritime Service Compliance System at https://mscs.marad.dot.gov.

Regulatory Analyses and Notices

Executive Order 12866 and DOT Regulatory Policies and Procedures. This interim final rule is not considered a significant regulatory action under section 3(f) of Executive Order 12886 and, therefore, was not reviewed by the Office of Management and Budget. This interim final rule is not likely to result in an annual effect on the economy of $100 million or more. This interim final rule is also not significant under the Regulatory Policies and Procedures of the Department of Transportation (44 FR 11034, February 26, 1979). The costs and benefits associated with this rulemaking are considered to be so minimal that no further analysis is necessary. The economic impact, if any, should be minimal; therefore, further regulatory evaluation is not necessary. Additionally, this interim final rule is intended only to allow timely as well as fair and efficient use of electronic submission technologies for the information collection identified in this interim final rule.

Administrative Procedure Act

The Administrative Procedure Act (5 U.S.C. 553) provides an exception to the notice and comment procedures when they are unnecessary or contrary to the public interest. MARAD finds that under 5 U.S.C. 553(b)(3)(B) good cause exists for not providing notice and comment since this interim final rule only changes the service obligation reporting date of graduates to March 31 following graduation and thereafter for six (6) consecutive years for a total of seven (7) reports. The USNR/MMR also requires a March 31 reporting date for its service obligation reports. Additionally, we find good cause under 5 U.S.C. 553(d) to make this interim final rule effective upon publication because this rule is noncontroversial and allows timely and efficient reporting criteria. An immediate effective date of this final rule will provide USMMA and State maritime academy SIP graduates with equal reporting dates irrespective of graduation date. However, MARAD will accept comments as indicated in the Comments section above.

Regulatory Flexibility Act

MARAD certifies that this interim final rule will not have a significant economic impact on a substantial number of small entities. This interim final rule only changes the service obligation reporting date for graduates to March 31 following graduation and for six (6) consecutive years thereafter. Only individuals and not businesses are affected by this interim final rule.

Federalism

We have analyzed this interim final rule in accordance with the principles and criteria contained in Executive Order 13132 (Federalism) and have determined that it does not have sufficient federalism implications to warrant the preparation of a federalism summary impact statement. These regulations have no substantial effects on the States, or on the current Federal-State relationship, or on the current distribution of power and responsibilities among the various local officials. Therefore, consultation with State and local officials is not necessary.

Executive Order 13175

MARAD does not believe that this interim final rule will significantly or uniquely affect the communities of Indian tribal governments when analyzed under the principles and criteria contained in Executive Order 13175 (Consultation and Coordination with Indian Tribal Governments). Therefore, the funding and consultation requirements of this Executive Order do not apply.

Environmental Impact Statement

We have analyzed this interim final rule for purposes of compliance with the National Environmental Policy Act of 1969 (42 U.S.C. 4321 et seq.) and have concluded that under the categorical exclusions in section 4.05 of Maritime Administrative Order (MAO) 600-1, “Procedures for Considering Environmental Impacts,” 50 FR 11606 (March 22, 1985), the preparation of an Environmental Assessment, and an Environmental Impact Statement, or a Finding of No Significant Impact for this interim final rule is not required. This interim final rule involves administrative and procedural regulations that have no environmental impact.

Unfunded Mandates Reform Act of 1995

This interim final rule does not impose an unfunded mandate under the Unfunded Mandates Reform Act of 1995. It does not result in costs of $100 million or more, in the aggregate, to any of the following: State, local, or Native American tribal governments, or the private sector. This interim final rule is the least burdensome alternative that achieves the objective of the rule.

Paperwork Reduction Act

This interim final rule contains information collection requirements covered by the Office of Management and Budget approval number 2133-0509.

List of Subjects in 46 CFR Part 310

Grant programs-education, Reporting and recordkeeping requirements, Schools, Seamen.

Accordingly, for the reasons discussed in the preamble, 46 CFR part 310, is amended as follows:

PART 310—[AMENDED]

1. The authority citation for part 310 continues to read as follows:

Authority: 46 App. U.S.C. 1295; 49 CFR 1.66.

2. In § 310.58, paragraph (d) is revised to read as follows:

§ 310.58 Service obligation for students enrolled after April 2, 1982.

* * * * *

(d) Reporting requirements. (1) Each graduate must submit a service obligation report form on March 31 following graduation and six (6) consecutive years thereafter. Each graduate will file a total of seven (7) reports in order to give information on all six (6) years of service obligation. Graduates are encouraged to submit the service obligation report to MARAD using the web-based Internet system at https://mscs.marad.dot.gov. You may also continue to mail the service obligation report to: Compliance Specialist, Maritime Administration, Office of Policy and Plans, Room 7123, 400 7th St., SW., Washington, DC 20590.

(i) Example 1: Midshipman/cadet graduates on June 30, 2004. His first reporting date is March 31, 2005 and thereafter on March 31 for six (6) consecutive years for a total of seven (7) reports.

(ii) Example 2: Midshipman/cadet has a deferred graduation to November 30, 2004. His first reporting date is March 31, 2005 and thereafter for six (6) consecutive years for a total of seven (7) reports.

(iii) Example 3: Midshipman/cadet graduated in June 2002 and has already begun his service obligation reporting. His reports are now due on March 31 of each reporting year.

(2) The Maritime Administration will provide reporting forms upon request. However, non-receipt of such form will not exempt a graduate from submitting service obligation information as required by this paragraph. Graduates are encouraged to submit their service obligation reports electronically at https://mscs.marad.dot.gov. The reporting form has been approved by the Office of Management and Budget (2133-0509).

* * * * *

Dated: February 26, 2004.
By Order of the Maritime Administrator.
Joel C. Richard,
Secretary, Maritime Administration.

[FR Doc. 04-4553 Filed 3-1-04; 8:45 am]

BILLING CODE 4910-81-P